DEPARTMENT OF ENERGY

Federal Energy Regulatory Commission

[Docket Nos. PF14-1-000; PF14-2-000; PF14-6-000]

Sabal Trail Transmission, LLC, Florida Southeast Connection, LLC, Transcontinental Gas Pipe Line Company, LLC, Notice of Intent To Prepare an Environmental Impact Statement for the Planned Southeast Market Pipelines Project, Request for Comments on Environmental Issues, and Notice of Public Scoping Meetings

The staff of the Federal Energy Regulatory Commission (FERC or Commission) will prepare an environmental impact statement (EIS) that discusses the environmental impacts of the planned Southeast Market Pipelines (SMP) Project. The SMP Project is comprised of three separate, but connected, natural gas transmission pipeline projects: Sabal Trail Transmission, LLC's (Sabal Trail's) Sabal Trail Project in Alabama, Georgia, and Florida; Florida Southeast Connection, LLC's (FSC's) Florida Southeast Connection Project (FSC Project) in Florida; and Transcontinental Gas Pipe Line Company, LLC's (Transco's) Hillabee Expansion Project in Alabama. The environmental impacts of all three projects will be considered in one EIS, which will be used by the Commission in its decisionmaking process to determine whether the SMP Project is in the public convenience and necessity.

This notice, which is being sent to the Commission's current environmental mailing list for the SMP Project, announces the opening of the scoping process that will be used to gather input about the SMP Project from the public and other interested stakeholders. State and local government representatives should notify their constituents about this process and encourage them to comment on their areas of concern. Scoping comments will help the Commission's staff determine what issues will need to be evaluated in the EIS. Please note that the scoping period will close on April 20, 2014.

Comments about the SMP Project may be submitted in written form or verbally. The Public Participation section of this notice describes how to submit written comments. Verbal comments can be given at the public scoping meetings to be held in the SMP Project area as scheduled below.

Date and time | Location
Monday, March 3, 2014, 6:00 p.m. | Hilton Garden Inn Albany, 101 South Front Street, Albany, GA 31701, (229) 888-1590.
Tuesday, March 4, 2014, 6:00 p.m. | Holiday Inn Valdosta Conference Center, 1805 West Hill Avenue, Valdosta, GA 31601, (229) 244-1111.
Wednesday, March 5, 2014, 6:00 p.m. | Moultrie Technical Facility Building A, Veterans Parkway Conference Center, 800 Veterans Parkway North, Moultrie, GA 31788, (229) 217-4185.
Monday, March 10, 2014, 6:00 p.m. | Russell County High School, 4716 Old Seale Highway, Seale, AL 36875, (334) 855-4378.
Tuesday, March 11, 2014, 6:00 p.m. | Central Alabama Community College, Betty Carol Graham Technology Center, 1675 Cherokee Road, Alexander City, AL 35010, (256) 234-6346.
Wednesday, March 12, 2014, 6:00 p.m. | Butler Civic Center, 108 North Academy Avenue, Butler, AL 36904, (205) 459-3795.
Tuesday, March 18, 2014, 6:00 p.m. | Lake Wales Art Center, 1099 East Florida 60, Lake Wales, FL 33853, (863) 676-8426.
Wednesday, March 19, 2014, 6:00 p.m. | Okeechobee High School, 2800 Highway 441 North, Okeechobee, FL 34972, (863) 462-5025.
Thursday, March 20, 2014, 6:00 p.m. | Kissimmee Civic Center, 201 East Dakin Avenue, Kissimmee, FL 34741, (407) 935-1412.
Monday, March 24, 2014, 6:00 p.m. | Live Oak City Hall, 101 White Avenue Southeast, Live Oak, FL 32064, (386) 362-2276.
Tuesday, March 25, 2014, 6:00 p.m. | Bell High School, 930 South Main Street, Bell, FL 32619, (352) 463-3232.
Wednesday, March 26, 2014, 6:00 p.m. | Rainbow Springs Country Club, 19330 Southwest 83rd Place Road, Dunnellon, FL 34432, (352) 489-3348.
Thursday, March 27, 2014, 6:00 p.m. | Citrus Tower, 141 North Highway 27, Clermont, FL 34711, (352) 394-4061.

The purpose of these scoping meetings is to provide the public an opportunity to learn more about the Commission's environmental review process, and to verbally comment on the SMP Project. Representatives from Sabal Trail, FSC, and Transco, as applicable, will be present one hour prior to each scoping meeting to answer questions about their respective SMP Project component. Affected landowners and other interested parties are encouraged to attend the scoping meetings and to give their comments on the issues they believe should be addressed in the EIS. A transcript of each meeting will be added to the Commission's administrative record to ensure that your comments are accurately recorded.

If you are a landowner receiving this notice, a pipeline company representative may contact you about the acquisition of an easement to construct, operate, and maintain the planned pipeline facilities. The company would seek to negotiate a mutually acceptable agreement. However, if the Commission approves the SMP Project, that approval conveys with it the right of eminent domain. Therefore, if easement negotiations fail to produce an agreement, a condemnation proceeding could be initiated where compensation would be determined in accordance with state law.

The “For Citizens” section of the FERC Web site (www.ferc.gov) provides more information about the FERC and the environmental review process. This section also includes information about getting involved in FERC jurisdictional projects, and a citizens' guide entitled “An Interstate Natural Gas Facility On My Land? What Do I Need to Know?” This guide addresses a number of frequently asked questions, including the use of eminent domain and how to participate in the Commission's proceedings.

Summary of the Planned Project

Sabal Trail, FSC, and Transco plan to construct and operate over 650 miles of interstate natural gas transmission pipeline and associated facilities in Alabama, Georgia, and Florida. The Sabal Trail Project would connect with the Hillabee Expansion Project in Alabama, and the FSC Project in Florida. The general location of the SMP Project facilities is shown in Appendix 1. The facilities associated with each project component are described below.

Sabal Trail Project

Sabal Trail plans to construct and operate approximately 460 miles of 36-inch-diameter natural gas transmission pipeline beginning in Tallapoosa County, Alabama and ending in Osceola County, Florida. The new pipeline would cross Tallapoosa, Chambers, Lee, and Russell Counties, Alabama; Stewart, Webster, Terrell, Lee, Dougherty, Mitchell, Colquitt, Brooks, and Lowndes Counties, Georgia; and Hamilton, Madison, Suwannee, Gilchrist, Alachua, Levy, Marion, Sumter, Lake, Polk, and Osceola Counties, Florida.

Sabal Trail also plans to construct and operate approximately 14 miles of 36-inch-diameter natural gas transmission pipeline in Osceola and Orange Counties, Florida (Hunters Creek Line) and approximately 24 miles of 24-inch-diameter natural gas transmission pipeline in Marion and Citrus Counties, Florida (Citrus County Line).

In addition to the planned pipelines, Sabal Trail would construct and operate five new compressor stations. These compressor stations would be located in Tallapoosa County, Alabama; Dougherty County, Georgia; and Suwannee, Marion, and Osceola Counties, Florida. Sabal Trail would also lease the capacity of Transco's Hillabee Expansion Project.

Lastly, Sabal Trail plans to construct a natural gas hub in Osceola County, Florida. A natural gas hub provides customers with receipt/delivery access to two or more interstate pipeline systems, provides transportation between these points, and offers administrative services that facilitate the movement and/or transfer of gas ownership.

The Sabal Trail Project would have an initial capacity of 800,000 dekatherms per day (Dth/d) with an initial in-service date of May 1, 2017. Through a series of phased compressor station expansions, the capacity of the Sabal Trail Project would increase to 1.1 million Dth/d by 2021.

FSC Project

FSC plans to construct and operate approximately 126 miles of up to 36-inch-diameter natural gas transmission pipeline beginning in Osceola County, Florida and ending at Florida Power & Light Company's Martin Clean Energy Center in Martin County, Florida. The new pipeline would cross Polk, Osceola, Okeechobee, St. Lucie, and Martin Counties, Florida.

The FSC Project would have an initial capacity of at least 600,000 Dth/d beginning on May 1, 2017.

Hillabee Expansion Project

Transco plans to construct and operate approximately 43.6 miles of 42- and 48-inch-diameter natural gas transmission pipeline in eight loop ¹ segments in Choctaw, Autauga, Chilton, Coosa, and Tallapoosa Counties, Alabama. The Hillabee Expansion Project would also include one new compressor station in Choctaw County, Alabama and additional compression/modifications at three existing compressor stations in Dallas, Chilton, and Coosa Counties, Alabama.

¹ A loop is a segment of pipe that is usually installed adjacent to an existing pipeline and connected to it at both ends. The loop allows more gas to be moved through the system.

Construction of the Hillabee Expansion Project would occur in phases resulting in an initial capacity of approximately 800,000 Dth/d to be leased to Sabal Trail on May 1, 2017, increasing to approximately 1.1 million Dth/d by 2021. The first phase of the project would involve compressor station modifications and the construction of pipeline in Autauga, Chilton, Choctaw, Coosa, Dallas, and Tallapoosa Counties, Alabama.

Land Requirements for Construction

Construction of the planned SMP Project facilities would disturb about 13,670 acres of land. The typical construction right-of-way for pipeline facilities would vary between 100 and 110 feet wide in uplands and 75 feet wide in wetlands, with additional workspace needed in some locations due to site-specific conditions and activities. Following construction, approximately 4,320 acres of land would be retained for permanent operation of the facilities. Land affected by construction but not required for operation would generally be allowed to revert to former uses.

The EIS Process

The National Environmental Policy Act (NEPA) requires the Commission to take into account the environmental impacts that could result from an action whenever it considers the issuance of a Certificate of Public Convenience and Necessity under Section 7 of the Natural Gas Act. NEPA also requires us ² to discover and address concerns the public may have about proposals. This discovery process is commonly referred to as “scoping.” The main goal of the scoping process is to focus the analysis in the EIS on the important environmental issues. By this notice, the Commission requests public comments on the scope of the issues to be addressed in the EIS. All comments received will be considered during the preparation of the EIS, and addressed as appropriate.

² “We,” “us,” and “our” refer to the environmental staff of the Commission's Office of Energy Projects.

In the EIS we will discuss impacts that could occur as a result of the construction and operation of the planned SMP Project under these general headings:

• geology and soils;

• water resources, including surface waters and groundwater;

• wetlands;

• vegetation, fisheries, and wildlife,

• threatened and endangered species;

• land use;

• socioeconomics;

• cultural resources;

• air quality and noise;

• public safety and reliability; and

• cumulative impacts.

We will also evaluate alternatives to the SMP Project, project components, pipeline routes, and aboveground facility locations; and make recommendations on how to avoid or minimize impacts on the various resource areas.

Although no formal applications have been filed, we have already initiated our NEPA review under the Commission's pre-filing process. The purpose of the pre-filing process is to encourage early involvement of interested stakeholders and to identify and resolve issues before the FERC receives an application. As part of our pre-filing review, we have begun to contact federal and state agencies to discuss their involvement in the scoping process and the preparation of the EIS.

The EIS will present our independent analysis of the issues. We will publish and distribute a draft EIS for public comment. After the comment period, we will consider all timely comments and revise the document, as necessary, before issuing a final EIS. To ensure we have the opportunity to consider and address your comments, please carefully follow the instructions in the Public Participation section below.

With this notice, we are asking agencies with jurisdiction by law and/or special expertise with respect to the environmental issues related to the SMP Project to formally cooperate with us in the preparation of the EIS.³ Agencies that would like to request cooperating agency status should follow the instructions for filing comments provided under the Public Participation section of this notice. Currently, the U.S. Army Corps of Engineers (COE) has expressed its intent to participate as a cooperating agency in the preparation of the EIS to satisfy its NEPA responsibilities related to this project. The COE has jurisdictional authority pursuant to Section 404 of the Clean Water Act, which governs the discharge of dredged or fill material into waters of the United States, and Section 10 of the Rivers and Harbors Act, which regulates any work or structures that potentially affect the navigability of a waterway.

³ The Council on Environmental Quality regulations addressing cooperating agency responsibilities are at Title 40, Code of Federal Regulations, Part 1501.6.

Consultations Under Section 106 of the National Historic Preservation Act

In accordance with the Advisory Council on Historic Preservation's implementing regulations for section 106 of the National Historic Preservation Act, we are using this notice to initiate consultation with the Alabama, Georgia, and Florida State Historic Preservation Offices (SHPOs), and to solicit their views and those of other government agencies, interested Indian tribes, and the public on the SMP Project's potential effects on historic properties.⁴ We will define the project-specific Area of Potential Effects (APE) in consultation with the SHPOs as the SMP Project develops. On natural gas facility projects, the APE at a minimum encompasses all areas subject to ground disturbance (examples include construction right-of-way, contractor/pipe storage yards, compressor stations, meter stations, and access roads). Our EIS for the SMP Project will document our findings on the impacts on historic properties and summarize the status of consultations under section 106.

⁴ The Advisory Council on Historic Preservation regulations are at Title 36, Code of Federal Regulations, Part 800. Those regulations define historic properties as any prehistoric or historic district, site, building, structure, or object included in or eligible for inclusion in the National Register for Historic Places.

Currently Identified Environmental Issues

Based on our preliminary review of the project; information provided by Sabal Trail, FSC, and Transco; and public comments filed in the Commission's administrative record and submitted to staff at the applicant-sponsored open houses, we have identified several issues that we think deserve attention. This preliminary list of issues may change based on your comments and our ongoing environmental analysis. These issues are:

• purpose and need for the SMP Project;

• impacts of clearing forested areas and other vegetation;

• impacts on water resources including sensitive springs, groundwater, and wetlands;

• karst terrain;

• impacts on land use;

• environmental justice;

• the use of eminent domain to obtain project easements;

• impacts on property values, tourism, and recreational resources;

• cultural resources;

• compressor station noise;

• pipeline integrity and public safety; and

• alternatives and cumulative impacts.

Public Participation

You can make a difference by providing us with your comments about the SMP Project. Your comments should focus on the potential environmental impacts of the project, reasonable alternatives, and measures to avoid or lessen these environmental impacts. The more specific your comments, the more useful they will be. To ensure that your comments are considered in a timely manner and properly recorded, please send your comments so that the Commission receives them in Washington, DC on or before April 20, 2014.

For your convenience, there are three methods you can use to submit your comments to the Commission. In all instances, please refer to the appropriate project docket number (PF14-1-000 for the Sabal Trail Project; PF14-2-000 for the FSC Project; or PF14-6-000 for the Hillabee Expansion Project) with your submission. If your comments apply to all three projects, then list all three. The Commission encourages electronic filing of comments and has expert staff available to assist you at (202) 502-8258 or efiling@ferc.gov.

(1) You can file your comments electronically using the eComment feature located on the Commission's Web site (www.ferc.gov) under the Documents and Filings heading. This is an easy method for interested persons to submit brief, text-only comments on a project;

(2) You can also file your comments electronically using the eFiling feature located on the Commission's Web site (www.ferc.gov) under the Documents and Filings heading. With eFiling, you can provide comments in a variety of formats by attaching them as a file with your submission. New eFiling users must first create an account by clicking on “eRegister.” You must select the type of filing you are making. If you are filing a comment on a particular project, please select “Comment on a Filing;” or

(3) You can file a paper copy of your comments by mailing them to the following address: Kimberly D. Bose, Secretary, Federal Energy Regulatory Commission, 888 First Street NE., Room 1A, Washington, DC 20426.

Environmental Mailing List

The environmental mailing list includes federal, state, and local government representatives and agencies; elected officials; environmental and public interest groups; Native American Tribes; other interested parties; and local libraries and newspapers. This list also includes all affected landowners (as defined in the Commission's regulations) who are potential right-of-way grantors, whose property may be used temporarily for project purposes, or who own homes within certain distances of aboveground facilities, and anyone who has submitted comments on the SMP Project in the Commission's administrative record. We will update the environmental mailing list as the analysis proceeds to ensure that we send the information related to this environmental review to all individuals, organizations, and government entities interested in and/or potentially affected by the planned SMP Project.

Copies of the draft EIS will be sent to the environmental mailing list for review and comment. If you would prefer to receive a paper copy of the EIS instead of the compact disc version or if you would like to remove your name from the mailing list, please return the attached Information Request (Appendix 2).

Becoming an Intervenor

Once the SMP Project proponents file applications with the Commission, you may want to become an “intervenor,” which is an official party to the Commission's proceeding. Intervenors play a more formal role in the process and are able to file briefs, appear at hearings, and be heard by the courts if they choose to appeal the Commission's final ruling. An intervenor formally participates in the proceeding by filing a request to intervene. Instructions for becoming an intervenor can be found under the “Getting Involved” heading of the “For Citizens” section on the FERC Web site. Please note that the Commission will not accept requests for intervenor status at this time. You must wait until the Commission receives a formal application for the project.

Additional Information

Additional information about the SMP Project is available from the Commission's Office of External Affairs at (866) 208-FERC or on the FERC Web site (www.ferc.gov) using the eLibrary. Click on the eLibrary link, click on “General Search,” and enter the docket number, excluding the last three digits (PF14-1, PF14-2, or PF14-6). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to www.ferc.gov/esubscribenow.htm.

Finally, public meetings or site visits will be posted on the Commission's calendar located at www.ferc.gov/EventCalendar/EventsList.aspx along with other related information.

Dated: February 18, 2014.
Kimberly D. Bose,
Secretary.

[FR Doc. 2014-04046 Filed 2-25-14; 8:45 am]

BILLING CODE 6717-01-P